DEPARTMENT OF ENERGY

5 CFR Chapter XXII

10 CFR Chapters II, III, X

Reducing Regulatory Burden

AGENCY: Office of the General Counsel, Department of Energy.

ACTION: Notice of extension of public comment period.

SUMMARY: This notice announces that the period for submitting comments on the Department of Energy's (DOE) request for information (RFI) issued as part of its implementation of Executive Order 13563, “Improving Regulation and Regulatory Review,” is extended to June 19, 2012.

DATES: DOE will accept comments, data, and information regarding the RFI received no later than June 19, 2012.

ADDRESSES: Interested persons are encouraged to submit comments, identified by “Regulatory Burden RFI,” by any of the following methods:

Federal eRulemaking Portal: http://www.regulations.gov. Follow the instructions for submitting comments.

Email: Regulatory.Review@hq.doe.gov. Include “Regulatory Burden RFI” in the subject line of the message.

Mail: U.S. Department of Energy, Office of the General Counsel, 1000 Independence Avenue SW., Room 6A245, Washington, DC 20585.

Docket: For access to the docket to read background documents or comments received, go to the Federal eRulemaking Portal at http://www.regulations.gov.

FOR FURTHER INFORMATION CONTACT: Daniel Cohen, Assistant General Counsel for Legislation, Regulation, and Energy Efficiency, U.S. Department of Energy, Office of the General Counsel, 1000 Independence Avenue SW., Washington, DC 20585. Email: Regulatory.Review@hq.doe.gov.

SUPPLEMENTARY INFORMATION: On January 18, 2011, the President issued Executive Order 13563, “Improving Regulation and Regulatory Review,” to ensure that Federal regulations seek more affordable, less intrusive means to achieve policy goals, and that agencies give careful consideration to the benefits and costs of those regulations. Additionally, the Executive Order directs agencies to consider how best to promote retrospective analyses of existing rules. To implement the Executive Order, DOE published a plan to periodically review existing regulations to determine which should be maintained, modified, strengthened, or repealed to increase the effectiveness and decrease the burdens of DOE's regulatory program. DOE's plan is available at http://www.whitehouse.gov/21stcenturygov/actions/21st-century-regulatory-system.

Pursuant to its plan to implement the Executive Order, DOE published an RFI on May 15, 2012 seeking additional public comment on how best to review its existing regulations and to identify whether any of its existing regulations should be modified, streamlined, expanded, or repealed. (77 FR 28518) DOE sought comment on the RFI until May 29, 2012. DOE received a request from a member of the public to extend the comment period given the importance of many of the questions and issues raised in the RFI to the commenter. As a result, in this notice, DOE extends the reply comment period until June 19, 2012. DOE will consider any comments received by June 19, 2012.

Issued in Washington, DC, on May 23, 2012.
Gregory H. Woods,
General Counsel.

[FR Doc. 2012-13054 Filed 5-25-12; 8:45 am]

BILLING CODE 6450-01-P